DEPARTMENT OF ENERGY

Federal Energy Regulatory Commission

Notice of Application Accepted for Filing and Soliciting Motions To Intervene and Protests

April 5, 2002.

Take notice that the following hydroelectric application has been filed with the Commission and is available for public inspection.

a. Type of Application: New Major License.

b. Project No.: 7000-015.

c. Date filed: January 30, 2002.

d. Applicant: Newton Falls Holdings, LLC (NFH).

e. Name of Project: Newton Falls Hydroelectric Project.

f. Location: The existing project is located on the Oswegatchie River in St. Lawrence County, New York. The project does not affect federal lands.

g. Filed Pursuant to: Federal Power Act, 16 U.S.C. 791 (a)—825(r).

h. Applicant Contact: Harold G. Slone, Manager, Newton Falls Holdings, LLC, 1930 West Wesley Road, NW., Atlanta, GA 30327; Telephone (770) 638-1172.

i. FERC Contact: Jim Haimes, (202) 219-2780 or james.haimes@ferc.gov

j. Deadline for filing motions to intervene and protests: 60 days from the issuance date of this notice.

All documents (original and eight copies) should be filed with: Magalie R. Salas, Secretary, Federal Energy Regulatory Commission, 888 First Street, NE., Washington, DC 20426.

The Commission's rules of practice require all interveners filing documents with the Commission to serve a copy of that document on each person on the official service list for the project. Further, if an intervener files comments or documents with the Commission relating to the merits of an issue that may affect the responsibilities of a particular resource agency, they must also serve a copy of the document on that resource agency.

Motions to intervene and protests may be filed electronically via the Internet in lieu of paper. See 18 CFR 385.2001(a)(1)(iii) and the instructions on the Commission's Web site (http://www.ferc.gov) under the “e-Filing” link.

k. This application has been accepted, but is not ready for environmental analysis at this time.

l. The constructed and operating Newton Falls Hydroelectric Project consists of an upper and a lower development with a combined installed capacity of 2, 220 kilowatts (kW). The project produces an average annual generation of 9,500,000 kilowatt-hours. From approximately 1927 until late 2000, the electricity produced by the project was consumed by the adjacent Newton Falls Paper Mill. Since this facility ceased manufacturing operations, almost all electricity produced at the project has been sold to the Niagara Mohawk Power Corporation.

The upper development includes the following constructed facilities: (1) A 40-foot-high, 600-foot-long, concrete gravity dam with 3-foot-high flash boards mounted on the 58-foot-long spillway; (2) a 42-foot-long floodgate structure with four gates; (3) a 650-acre reservoir with a gross storage capacity of 5,930 acre-feet; (4) a reinforced concrete intake structure with a maximum height of 25 feet, equipped with trash racks having 2-inch spacing; (5) a 9-foot-diameter, 1,200-foot-long, wood stave penstock supported on timber cradles and mud sills; (6) a riveted steel surge tank; (7) a 49-foot-long, 26-foot-wide, and 45-foot-high, reinforced concrete and brick powerhouse, containing three vertical Francis turbines with a combined maximum hydraulic capacity of 464 cubic feet per second (cfs) and a net head of 46 feet, directly connected to three generator units having a total installed capacity of 1,540 kilowatts (kW); (8) a 375-foot-long, 60 Hertz transmission line; and (9) appurtenant facilities.

The lower development includes the following constructed facilities: (1) A 28-foot-high, 350-foot-long, concrete gravity dam with 3-foot-high flash boards mounted on the 120-foot-long spillway; (2) a 9-acre impoundment with a gross storage capacity of 115 acre-feet; (3) a 15-foot-high, reinforced concrete intake structure, equipped with trash racks having 2-inch spacing; (4) a 60-foot-long by 40-foot-wide, reinforced concrete powerhouse located immediately downstream of the dam, containing one vertical Francis turbine with a maximum hydraulic capacity of 486 cfs and a net head of 22 feet, directly connected to a 680-kW generator unit; (5) a 2,200-foot-long, 60 Hertz transmission line; and (6) appurtenant facilities.

With the exception of periods of high inflows, the upper development is operated as a daily peaking facility with most generation taking place during the hours of peak electricity demand. This store and release operation is restricted during the months of May and June, the spawning period for smallmouth bass and northern pike, such that daily reservoir drawdowns do not exceed 1 foot from the top of the flash boards. During the remainder of the year, daily peaking causes reservoir drawdowns of up to 2.2 feet from the top of the flash boards.

The tailrace of the upper development discharges directly into the lower development's reservoir. Generally, the hydraulic output of the lower powerhouse is established such that it releases approximately the same flow as the upper one. Consequently, daily drawdowns of the lower reservoir are minimal.

Although the project's current license does not mandate the provision of minimum flows in the project's bypassed reaches, the licensee is required to provide a continuous minimum flow of 100 cfs or project inflow, whichever is less, below the lower development. Further, the existing license does not require the provision of public recreational facilities at the project.

Currently, the applicant and concerned agencies and non-governmental organizations are discussing a settlement agreement that would require NFH to implement various environmental enhancement measures at the project.

m. Locations of the Application: A copy of the application is available for inspection and reproduction at the Commission's Public Reference Room, Room 2A, located at 888 First Street, NE., Washington, DC 20426, or by calling (202) 208-1371. The application may be viewed on the web at http://www.ferc.gov using the “RIMS” link—select “Docket P-7000” and follow the instructions (call (202)208-2222 for assistance). A copy is also available for inspection and reproduction at the address in item h above.

n. Anyone may submit a protest or a motion to intervene in accordance with the requirements of rules of practice and procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Magalie R. Salas,
Secretary.

[FR Doc. 02-8919 Filed 4-11-02; 8:45 am]

BILLING CODE 6717-01-P